INTERNATIONAL TRADE COMMISSION

[Investigation No. 332-466]

Advice Concerning Possible Modifications to the U.S. Generalized System of Preferences, 2004 Review

AGENCY: International Trade Commission.

ACTION: Institution of investigation and scheduling of hearing.

SUMMARY: Following receipt on February 7, 2005 of a request from the United States Trade Representative (USTR) under section 332(g) of the Tariff Act of 1930 (19 U.S.C. 1332 (g)), the Commission instituted investigation No. 332-466, Advice Concerning Possible Modifications to the U.S. Generalized System of Preferences, 2004 Review.

Background: As requested by the USTR, in accordance with sections 503(a)(1)(A), 503(e), and 131(a) of the Trade Act of 1974 (1974 Act), and under section 332(g) of the Tariff Act of 1930, the Commission will provide advice as to the probable economic effect on U.S. industries producing like or directly competitive articles and on consumers of the elimination of U.S. import duties for all beneficiary developing countries under the GSP for the following HTS subheadings: 0804.10.20, 0804.10.40, 0804.10.60, 0804.10.80, 2008.99.25, 5702.51.20, 5702.91.30, 5702.92.0010, 5702.99.1010, 5703.10.0020, 5703.20.10, 5703.30.0020, and 7320.10.60. In providing its advice on these articles, the USTR asked that the Commission assume that the benefits of the GSP would not apply to imports that would be excluded from receiving such benefits by virtue of the competitive need limits specified in section 503(c)(2)(A) of the 1974 Act.

As requested by the USTR, pursuant to section 332(g) of the Tariff Act of 1930, the Commission will provide advice as to the probable economic effect on U.S. industries producing like or directly competitive articles and on consumers of the removal of Russia from eligibility for duty-free treatment under the GSP for HTS subheading 3904.61.00.

As requested under section 332(g) of the Tariff Act of 1930 and in accordance with section 503(d)(1)(A) of the 1974 Act, the Commission will provide advice on whether any industry in the United States is likely to be adversely affected by a waiver of the competitive need limits specified in section 503(c)(2)(A) of the 1974 Act for the Philippines for HTS subheading 3823.19.20; for Argentina for HTS subheadings 4107.19.50 and 4107.92.80; and for Turkey for HTS subheading 6802.91.25. With respect to the competitive need limit in section 503(c)(2)(A)(i)(I) of the 1974 Act, the Commission, as requested, will use the dollar value limit of $115,000,000.

As requested by the USTR, the Commission will seek to provide its advice not later than May 9, 2005.

DATES: Effective Date: February 9, 2005.

FOR FURTHER INFORMATION CONTACT: Project Leader, Cynthia B. Foreso ((202) 205-3348 or cynthia.foreso@usitc.gov).

Deputy Project Leader, Eric Land ((202) 205-3349 or eric.land@usitc.gov).

The above persons are in the Commission's Office of Industries. For information on legal aspects of the investigation, contact William Gearhart of the Commission's Office of the General Counsel at (202) 205-3091 or william.gearhart@usitc.gov.

Public Hearing: A public hearing in connection with this investigation is scheduled to begin at 9:30 a.m. on March 23, 2005, at the United States International Trade Commission Building, 500 E Street, SW., Washington, DC. All persons have the right to appear by counsel or in person, to present information, and to be heard. Persons wishing to appear at the public hearing should file a letter with the Secretary, United States International Trade Commission, 500 E St., SW., Washington, DC 20436, not later than the close of business (5:15 p.m.) on March 4, 2005, in accordance with the requirements in the “Submissions” section below. In the event that no requests to appear at the hearing are received by the close of business on March 4, 2005, the hearing will be canceled. Any person interested in attending the hearing as an observer or non-participant may call the Secretary to the Commission ((202) 205-1816) after March 4, 2005 to determine whether the hearing will be held.

Written Submissions: In lieu of or in addition to participating in the hearing, interested parties are invited to submit written statements or briefs concerning these investigations. All written submissions, including requests to appear at the hearing, statements, and briefs, should be addressed to the Secretary, United States International Trade Commission, 500 E Street, SW., Washington, DC 20436. Any prehearing statements or briefs should be filed not later than 5:15 p.m., March 7, 2005; the deadline for filing posthearing statements or briefs is 5:15 p.m., March 30, 2005. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, ftp://ftp.usitc.gov/pub/reports/electronic_filing_handbook.pdf). Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available in the Office of the Secretary to the Commission for inspection by interested parties.

The Commission may include some or all of the confidential business information submitted in the course of these investigations in the report it sends to the USTR and the President. As requested by the USTR, the Commission will publish a public version of the report. However, in the public version, the Commission will not publish confidential business information in a manner that would reveal the operations of the firm supplying the information.

Persons with mobility impairments who will need special assistance in gaining access to the Commission should contact the Secretary at (202) 205-2000.

Issued: February 10, 2005.
By order of the Commission.
Marilyn R. Abbott,
Secretary to the Commission.

[FR Doc. 05-2924 Filed 2-15-05; 8:45 am]

BILLING CODE 7020-02-P